DEPARTMENT OF VETERANS AFFAIRS

[OMB Control No. 2900-0276]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before October 23, 2000.

FOR FURTHER INFORMATION OR A COPY OF THE SUBMISSION CONTACT: Denise McLamb, Information Management Service (045A4), Department of Veterans Affairs, 810 Vermont Avenue, NW., Washington, DC 20420, (202) 273-8030 or FAX (202) 273-5981. Please refer to “OMB Control No. 2900-0276.”

SUPPLEMENTARY INFORMATION: Title: Manufactured Home Appraisal Report, VA Form 26-8712.

OMB Control Number: 2900-0276.

Type of Review: Extension of a currently approved collection.

Abstract: This form is used by VA fee and staff appraisers to establish the reasonable value of used manufactured homes. The reasonable value is then used: (1) To establish the maximum loan amount a veteran may obtain for the purchase of a used manufactured home unit; (2) to obtain information on the condition of the unit and its compliance with VA's minimum property requirements; and (3) in the event of foreclosure, to ascertain the value of the unit for resale purposes for use in computation of claims in applicable cases.

An agency may not conduct or sponsor, and a person is not required to respond to a collection of information unless it displays a currently valid OMB control number. The Federal Register Notice with a 60-day comment period soliciting comments on this collection of information was published on June 20, 2000, at page 38318.

Affected Public: Individuals or Households and Business or other for-profit.

Estimated Annual Burden: 1 hour.

Estimated Average Burden Per Respondent: 90 minutes.

Frequency of Response: On occasion.

Estimated Number of Respondents: 124.

Send comments and recommendations concerning any aspect of the information collection to VA's OMB Desk Officer, Allison Eydt, OMB Human Resources and Housing Branch, New Executive Office Building, Room 10235, Washington, DC 20503 (202) 395-4650. Please refer to “OMB Control No. 2900-0276” in any correspondence.

Dated: August 25, 2000.
By direction of the Acting Secretary.
Donald L. Neilson,
Director, Information Management Service.

[FR Doc. 00-24329 Filed 9-21-00; 8:45 am]

BILLING CODE 8320-01-P